DEPARTMENT OF TRANSPORTATION

Federal Aviation Administration

14 CFR Part 71

[Airspace Docket No. 00-AEA-05FR]

Establishment of Class E Airspace, Rome, NY; Correction

AGENCY: Federal Aviation Administration (FAA), DOT.

ACTION: Final rule; correction.

SUMMARY: This action corrects an error in the geographic coordinates of a final rule that was published in the Federal Register on March 28, 2001 (66 FR 16848), Airspace Docket No. 00-AEA-05FR, which established Class E airspace at Griffiss Airpark, Rome, NY.

EFFECTIVE DATE: September 6, 2001.

FOR FURTHER INFORMATION CONTACT: Mr. Francis T. Jordan, Jr., Airspace Specialist, Airspace Branch, AEA-520 F.A.A. Eastern Region, 1 Aviation Plaza, Jamaica, NY; 11434-4809; telephone: (718) 553-4521.

SUPPLEMENTARY INFORMATION:

History

Federal Register document 01-7420, Airspace Docket No. 00-AEA-05FR, published on March 28, 2001 (66 FR 16848), established Class E airspace at Rome, NY. An error was discovered in the geographic coordinates for the Griffiss Airpark, Rome, NY. This action corrects that error.

Correction to Final Rule

Accordingly, pursuant to the authority delegated to me, the geographic coordinates for the Griffiss Airpark as published in the Federal Register on March 28, 2001 (66 FR 16848), are corrected as follows:

§ 71.1 [Corrected]

AEA NY E5 Rome, NY [Corrected]

1. On p. 16849, column 1, in the coordinates under Griffiss Airpark, correct “(Lat. 43°14′04″ N/ long. 75°24′43″ W)” to read “(Lat. 43°14′02″ N/ long. 75°24′25″ W)”.

Issued in Jamaica, New York on June 1, 2001.
F.D. Hatfield,
Manager, Air Traffic Division, Eastern Region.

[FR Doc. 01-15334 Filed 6-25-01; 8:45 am]

BILLING CODE 4910-13-M